DEPARTMENT OF LABOR

Employment and Training Administration

[TA-W-82,471]

Amantea Nonwovens, LLC, Including On-Site Leased Workers From Express Employment Professionals, The Job Store, and Staffmark, Cincinnati, Ohio; Amended Certification Regarding Eligibility to Apply for Worker Adjustment Assistance

In accordance with Section 223 of the Trade Act of 1974, as amended (“Act”), 19 U.S.C. 2273, the Department of Labor issued a Certification of Eligibility to Apply for Worker Adjustment Assistance on February 25, 2013, applicable to workers of Amantea Nonwovens, L.L.C. including on-site leased workers from Express Employment Professionals and The Job Store, Cincinnati, Ohio. The workers are engaged in activities related to the production of nonwoven diaper components. The notice was published in the Federal Register on March 26, 2013 (78 FR 18367).

At the request of a company official, the Department reviewed the certification for workers of the subject firm. New information from the company shows that workers leased from Staffmark were employed on-site at the Cincinnati, Ohio location of Amantea Nonwovens, L.L.C. The Department has determined that these workers were sufficiently under the control of Amantea Nonwovens, L.L.C. to be considered leased workers.

The intent of the Department's certification is to include all workers of the subject firm who were adversely affected by a shift in the production of nonwoven diaper components to China.

Based on these findings, the Department is amending this certification to include workers leased from Staffmark working on-site at the Cincinnati, Ohio location of the subject firm.

The amended notice applicable to TA-W-82,471 is hereby issued as follows:

All workers from Amantea Nonwovens, L.L.C. including on-site leased workers from Express Employment Professionals, The Job Store and Staffmark, Cincinnati, Ohio, who became totally or partially separated from employment on or after February 18, 2012, through March February 25, 2015, and all workers in the group threatened with total or partial separation from employment on date of certification through two years from the date of certification, are eligible to apply for adjustment assistance under Chapter 2 of Title II of the Trade Act of 1974, as amended.

Signed at Washington, DC this 14th day of May 2013.
Michael W. Jaffe,
Certifying Officer, Office of Trade Adjustment Assistance.

[FR Doc. 2013-12731 Filed 5-29-13; 8:45 am]

BILLING CODE 4510-FN-P